DEPARTMENT OF COMMERCE

Foreign-Trade Zones Board

[B-35-2018]

Foreign-Trade Zone (FTZ)126—Reno, Nevada; Authorization of Production Activity; Tesla, Inc. (Lithium-Ion Batteries, Electric Motors, and Stationary Energy Storage Systems); Sparks and McCarran, Nevada

On May 23, 2018, Tesla, Inc. submitted a notification of proposed production activity to the FTZ Board for its facility within Subzone 126D, in Sparks and McCarran, Nevada.

The notification was processed in accordance with the regulations of the FTZ Board (15 CFR part 400), including notice in the Federal Register inviting public comment (83 FR 25428, June 1, 2018). On September 20, 2018, the applicant was notified of the FTZ Board's decision that no further review of the activity is warranted at this time. The production activity described in the notification was authorized, subject to the FTZ Act and the FTZ Board's regulations, including Section 400.14.

Dated: September 20, 2018.
Andrew McGilvray,
Executive Secretary.

[FR Doc. 2018-20906 Filed 9-25-18; 8:45 am]

BILLING CODE 3510-DS-P